TENNESSEE VALLEY AUTHORITY

Agency Information Collection Activities: Proposed Collection; Comment Request

AGENCY: Tennessee Valley Authority.

ACTION: 30-Day notice of submission of information collection approval and request for comments.

SUMMARY: The information collection described below will be submitted to the Office of Management and Budget (OMB) at, oira_submission@omb.eop.gov, for review, as required by the Paperwork Reduction Act of 1995. The Tennessee Valley Authority is soliciting public comments on this proposed collection.

DATES: Comments should be sent to the TVA Senior Privacy Program Manager, and the OMB Office of Information & Regulatory Affairs, Attention: Desk Officer for Tennessee Valley Authority, Washington, DC 20503, or email: oira_submission@omb.eop.gov, no later than December 30, 2019.

ADDRESSES: Requests for information, including copies of the information collection proposed and supporting documentation, should be directed to the Senior Privacy Program Manager: Christopher A. Marsalis, Tennessee Valley Authority, 400 W Summit Hill Dr. (WT 5D), Knoxville, Tennessee 37902-1401; telephone (865) 632-2467 (this is not a toll-free number) or by email at camarsalis@tva.gov.

SUPPLEMENTARY INFORMATION:

Type of Request: Extension without change of a currently approved collection.

Title of Information Collection: Employment Application.

OMB Approval Number: 3316-0063.

Frequency of Use: On Occasion.

Type of Affected Public: Individuals.

Small Businesses or Organizations Affected: No.

Federal Budget Functional Category Code: 999.

Estimated Number of Annual Responses: 2,683.

Estimated Total Annual Burden Hours: 2,298.

Estimated Average Burden Hours per Response: .85.

Need for and Use of Information: Applications for employment are needed to collect information on qualifications, suitability for employment, and eligibility for veteran's preference. The information is used to make comparative appraisals and to assist in selections. The affected public consists of individuals who apply for TVA employment.

Andrea S. Brackett,
Director, TVA Cybersecurity.

[FR Doc. 2019-25823 Filed 11-27-19; 8:45 am]

BILLING CODE 8120-08-P